SOCIAL SECURITY ADMINISTRATION

[Docket No. SSA-2018-0036]

Notice of Senior Executive Service Performance Review Board Membership

AGENCY: Social Security Administration.

ACTION: Notice of Senior Executive Service Performance Review Board Membership.

Title 5, U.S. Code, 4314 (c)(4), requires that the appointment of Performance Review Board members be published in the Federal Register before service on said Board begins.

The following persons will serve on the Performance Review Board which oversees the evaluation of performance appraisals of Senior Executive Service members of the Social Security Administration:

Bonnie Doyle

Stephen Evangelista *

Joanne Gasparini

Erik Hansen

John Lee

Joseph Lytle

Dan Parry

Van Roland *

Patrice Stewart

* New Member

Marianna LaCanfora,
Deputy Commissioner for Human Resources.

[FR Doc. 2018-16945 Filed 8-7-18; 8:45 am]

BILLING CODE 4191-02-P